DEPARTMENT OF COMMERCE

International Trade Administration

[A-533-808]

Final Results of Expedited Sunset Review: Stainless Steel Wire Rods From India

AGENCY: Import Administration, International Trade Administration, Department of Commerce.

ACTION: Notice of final results of expedited sunset review: Stainless steel wire rods from India.

SUMMARY: On July 1, 1999, the Department of Commerce (the “Department”) initiated a sunset review of the antidumping duty order on stainless steel wire rods from India (64 FR 35588) pursuant to section 751(c) of the Tariff Act of 1930, as amended (the “Act”). On the basis of a notice of intent to participate and adequate substantive response filed on behalf of domestic interested parties and inadequate response (in this case, no response) from respondent interested parties, the Department determined to conduct an expedited sunset review. As a result of this review, the Department finds that revocation of the antidumping duty order would be likely to lead to continuation or recurrence of dumping at the levels indicated in the Final Result of Review section of this notice.

For Further Information Contact: Eun W. Cho or Melissa G. Skinner, Office of Policy for Import Administration, International Trade Administration, U.S. Department of Commerce, 14th Street and Constitution Avenue, NW., Washington, DC 20230; telephone: (202) 482-1698 or (202) 482-1560, respectively.

Effective Date: February 3, 2000.

Statute and Regulations

This review was conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in 19 CFR Part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Scope

Imports covered by this order are shipments of stainless steel wire rods (“SSWR”) from India. SSWR are products which are hot-rolled or hot-rolled annealed and/or pickled rounds, squares, octagons, hexagons or other shapes, in coils. SSWR are made of alloy steels containing, by weight, 1.2 percent or less of carbon and 10.5 percent or more of chromium, with or without other elements. These products are only manufactured by hot-rolling and are normally sold in coiled form, and are of solid cross-section. The majority of SSWR sold in the United States are round in cross-section shape, annealed and pickled. The most common size is 5.5 millimeters in diameter. The SSWR subject to this review are currently classifiable under subheadings 7221.00.0005, 7221.00.0015, 7221.00.0020, 7221.00.0030, 7221.00.0040, 7221.00.0045, 7221.00.0060, 7221.00.0075, and 7221.00.0080 of the Harmonized Tariff Schedule of the United States (“HTSUS”).

The HTSUS item numbers are provided for convenience and customs purposes only. The written product description of the scope of this order remains dispositive.

History of the Order

The antidumping duty order on SSWR from India was published in the Federal Register on December 1, 1993 (58 FR 63335). In that order, the Department determined that the weighted-average dumping margins for Mukand Ltd.(“Mukand”), Sunstar Metals Ltd. (“Sunstar”), Grand Foundry, Ltd. (“Grand Foundry”), and all others were 48.80 percent.¹ Since that time, the Department has completed one administrative review and two new shipper reviews.² We note that the Department has not conducted any duty-absorption investigation with respect to the subject merchandise. The order remains in effect for all manufacturers and exporters of the subject merchandise.

¹ See Antidumping Duty Order: Certain Stainless Steel Wire Rods from India, 58 FR 63335 (December 1, 1993).

² See Certain Stainless Steel Wire Rod From India; Final Results of New Shipper Antidumping Duty Administrative Review, 62 FR 38976 (July 21, 1997); and Certain Stainless Steel Wire Rod from India; Final Results of Antidumping Duty Administrative and New Shipper Reviews, 64 FR 856 (January 6, 1999).

Background

On July 1, 1999, the Department initiated a sunset review of the antidumping duty order on SSWR from India (64 FR 35588) pursuant to section 751(c) of the Act. The Department received a joint Notice of Intent to Participate on behalf of AL Tech Specialty Steel Corp., Carpenter Technology Corp., Republic Engineered Steels, Inc., Talley Metals Technology, Inc., and the United Steelworkers of America, AFL-CIO/CLC (hereinafter referred to as “domestic interested parties”) on July 16, 1999, within the deadline specified in section 351.218(d)(1)(i) of the Sunset Regulations. In their Notice of Intent to Participate, the domestic interested parties note that they are not related to foreign producers/exporters or to domestic importers of the subject merchandise, nor are they importers of the subject merchandise within the meaning of section 771(4)(B) of the Act.

We received a complete substantive response from the domestic interested parties on August 2, 1999, within the 30-day deadline specified in section 351.218(d)(3)(i) of the Sunset Regulations. The domestic interested parties claim interested party status under sections 771(9)(C) and 771(9)(D) of the Act as producers/manufacturers of a domestic like product and as a union representing workers engaged in the production of the like product in the United States, respectively. The domestic interested parties note that each of the domestic interested parties has been involved in these proceedings since the investigation and that, as a group, they are willing to participate fully in the instant review.

We did not receive a substantive response from any respondent interested party to this proceeding. Consequently, pursuant to section 351.218(e)(1)(ii)(C) of the Sunset Regulations, we determined to conduct an expedited, 120-day, review of this order.

In accordance with section 751(c)(5)(C)(v) of the Act, the Department may treat a review as extraordinarily complicated if it is a review of a transition order (i.e., an order in effect on January 1, 1995). Therefore, on November 16, 1999, the Department determined that the sunset review of the antidumping duty order on SSWR from India is extraordinarily complicated and extended the time limit for completion of the final results of this review until not later than January 27, 2000, in accordance with section 751(c)(5)(B) of the Act.³

³ See Extension of Time Limit for Final Results of Five-Year Reviews, 64 FR 62167 (November 16, 1999).

Determination

In accordance with section 751(c)(1) of the Act, the Department conducted this review to determine whether revocation of the antidumping order would be likely to lead to continuation or recurrence of dumping. Section 752(c) of the Act provides that, in making this determination, the Department shall consider the weighted-average dumping margins determined in the investigation and subsequent reviews and the volume of imports of the subject merchandise for the period before and the period after the issuance of the antidumping order, and shall provide to the International Trade Commission (“the Commission”) the magnitude of the margin of dumping likely to prevail if the order is revoked.

The Department's determinations concerning continuation or recurrence of dumping and the magnitude of the margin are discussed below. In addition, the comments of the domestic interested parties, with respect to continuation or recurrence of dumping and the magnitude of the margin, are addressed within the respective sections below.

Continuation or Recurrence of Dumping

Drawing on the guidance provided in the legislative history accompanying the Uruguay Round Agreements Act (“URAA”), specifically the Statement of Administrative Action (“the SAA”), H.R. Doc. No. 103-316, vol. 1 (1994), the House Report, H.R. Rep. No. 103-826, pt.1 (1994), and the Senate Report, S. Rep. No. 103-412 (1994), the Department issued its Sunset Policy Bulletin providing guidance on methodological and analytical issues, including the bases for likelihood determinations. In its Sunset Policy Bulletin, the Department indicated that determinations of likelihood will be made on an order-wide basis (see section II.A.2). In addition, the Department indicated that normally it will determine that revocation of an antidumping order is likely to lead to continuation or recurrence of dumping where (a) dumping continued at any level above de minimis after the issuance of the order, (b) imports of the subject merchandise ceased after the issuance of the order, or (c) dumping was eliminated after the issuance of the order and import volumes for the subject merchandise declined significantly (see section II.A.3).

In addition to considering the guidance on likelihood cited above, section 751(c)(4)(B) of the Act provides that the Department shall determine that revocation of an order is likely to lead to continuation or recurrence of dumping where a respondent interested party waives its participation in the sunset review. In the instant review, the Department did not receive a response from any respondent interested party. Pursuant to section 351.218(d)(2)(iii) of the Sunset Regulations, this constitutes a waiver of participation.

The domestic interested parties argue that the sales of the subject merchandise at less-than-fair value would continue or resume if the antidumping order on SSWR from India is revoked. In support of their argument, the domestic interested parties compare the import volumes of the subject merchandise for the period before and the period after the issuance of the order. The domestic interested parties note that the import volumes of the subject merchandise declined substantially after the discipline of the order was put into effect. Specifically, the domestic interested parties indicate that, during the three-year period (1990-1992) prior to the initiation of the investigation, the average import volume of the subject merchandise was 4.12 million pounds annually; whereas, during the three-year period (1994-1996) following the imposition of the order, the average annual import volume of the subject merchandise declined to 49,259 pounds—a 98.8 percent decline. (See August 2, 1999, substantive response of the domestic interested parties at 14-17 and 20-21.)

Although the domestic interested parties acknowledge that the Department determined that, in its new shipper review, Isibars, Viraj, and Panchmahal, and, in its administrative review, Mukand was not dumping during the respective review period,⁴ the domestic interested parties urge that the Department should consider those zero dumping margins in conjunction with the fact that imports of the subject merchandise declined substantially since the issuance of the order. Id.

⁴ See footnote 2, supra. The Department determined in its new shipper reviews that Isibars Limited (“Isibars”), Viraj Group (“Viraj”), and Panchmahal Steel Ltd. (“Panchmahal”) have not sold the subject merchandise at less than normal value during the respective relevant period of review. Also, the Department determined in its lone administrative review that Mukand, Ltd. (“Mukand”) did not dump during the review period (1996-1997).

In conclusion, the domestic interested parties contend that, since Indian manufacturers/exporters have not been able to export SSWR to the Unites States with the discipline of the order in place, the Department should determine that Indian manufacturers/exporters cannot sell the subject merchandise without dumping; i.e., dumping of the subject merchandise would be likely to resume or continue were the order revoked. Id.

The domestic interested parties' argument concerning the import volumes of the subject merchandise is supported by the data in the Commission's Interactive Tariff and Trade Data Web. In the year preceding the initiation of the investigation, 1992, the import volume of the subject merchandise was 3,941 metric tons. In the year following the order, 1994, the import volume fell to 19 metric tons—a decline of more than 99 percent. From 1994 to 1998, the average import volume of the subject merchandise was about 64 metric tons, which is less than 1 percent of the pre-order volume. Therefore, we determine that import of the subject merchandise declined substantially after the issuance of the order.

As indicated in section II.A.3 of the Sunset Policy Bulletin reflecting the SAA at 889-890, Senate Report at 52, and the House Report at 63-64, the Department considers whether dumping continued at any level above de minimis after the issuance of the order. If companies continue dumping with the discipline of an order in place, the Department may reasonably infer that dumping would continue were the discipline removed. Additionally, if dumping was eliminated and import volumes declined significantly, the Department normally will determine that dumping is likely to continue or recur. Although the cash deposit rate for Viraj, Panchmahal, and Mukand is currently zero, the cash deposit rates for all other producers/exporters is above de minimis. Further, the volume of imports has declined significantly since the issuance of the order.

In conclusion, inasmuch as import volumes of the subject merchandise have declined significantly after the issuance of the order, cash deposit rate remains at a level above de minimis for some exporters, and the respondent interested parties waived their right to participate in this review, we determine that revocation of the antidumping duty order would be likely to lead to continuation or recurrence of dumping.

Magnitude of the Margin

In the Sunset Policy Bulletin, the Department stated that it will normally provide to the Commission the margin that was determined in the final determination in the original investigation. Further, for companies not specifically investigated or for companies that did not begin shipping until after the order was issued, the Department normally will provide a margin based on the all-others rate from the investigation. (See section II.B.1 of the Sunset Policy Bulletin.) Exceptions to this policy include the use of a more recently calculated margin, where appropriate, and consideration of duty absorption determinations. (See sections II.B.2 and 3 of the Sunset Policy Bulletin.)

The Department, in its notice of the antidumping duty order on SSWR from India, established both company-specific and all-others weighted-average dumping margins.⁵ We note that, to date, the Department has not issued any duty absorption findings in this case.

⁵ See footnote 1, supra.

The domestic interested parties assert that the likely-to-prevail margins, if the order is revoked, should be those from the original investigation. (See the domestic interested parties' June 2, 1999, substantive response at 24-25.)

We agree with the domestic interested parties. Absent argument and evidence to the contrary, we determine that, were the order revoked, the margins calculated in the original investigation are indicative of the behavior of Indian manufacturers/exporters of the subject merchandise because the margins from the original investigation are the only ones that reflect Indian manufacturers/exporters' behavior absent the discipline of the order. Therefore, the Department will report to the Commission the company-specific and all-others margins reported in the Final Results of Review section of this notice.

Final Results of Review

Based on the above analysis, the Department finds that revocation of the antidumping order would likely lead to continuation or recurrence of dumping at the margins listed below:

Manufacturer/exporter | Margin (percent)
Mukand, Ltd | 48.80
Sunstar Metals, Ltd | 48.80
Grand Foundry, Ltd | 48.80
All others | 48.80

This notice serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

This five-year (“sunset”) review and notice are in accordance with sections 751(c), 752, and 777(i)(1) of the Act.

Dated: January 27, 2000.
Holly A. Kuga,
Acting Assistant Secretary for Import Administration.

[FR Doc. 00-2419 Filed 2-2-00; 8:45 am]

BILLING CODE 3510-DS-P